DEPARTMENT OF COMMERCE

National Institute of Standards and Technology

[Docket No.: 020726181-2181-01]

RIN 0693-ZA49

Building Systems Research Grants Program; Availability of Funds

AGENCY: National Institute of Standards and Technology, Commerce.

ACTION: Notice.

SUMMARY: The National Institute of Standards and Technology (NIST) invites proposals from eligible organizations for funding projects under the Building Systems Research Grants Program (Program). The Program is seeking proposals in two specific areas: (1) cyber-security of computerized building control and safety systems, and (2) design/construction product (and process) data models to support building systems commissioning, which occurs after construction is completed and before operation and maintenance begins.

DATES: Proposals must be received no later than 5 p.m. Eastern Daylight Time on September 4, 2002.

ADDRESSES: Submit one signed original and two copies of the proposal to: Building and Fire Research Laboratory (BFRL), Attn.: Ms. Tina Faecke, National Institute of Standards and Technology, 100 Bureau Drive, Stop 8602, Gaithersburg, Maryland 20899-8602, Tel: (301) 975-5911, E-mail: tina.faecke@nist.gov, Website: http://www.bfrl.nist.gov.

FOR FURTHER INFORMATION CONTACT: All grants related administration questions concerning these programs should be directed to the NIST Grants and Agreements Management Division at (301) 975-6328.

SUPPLEMENTARY INFORMATION:

Authority: As authorized by 15 U.S.C. 272(b) and (c), the NIST Building and Fire Research Laboratory is conducting a basic and applied building systems research program directly and through grants and cooperative agreements to eligible recipients.

Program Description and Objectives: The Building Systems Research Grants Program solicits proposals in support of the program objectives identified below. All proposals submitted to the Building Systems Research Grants Program must be in accordance with these program objectives. The appropriate Program Manager for each field of research may be contacted for clarification of the program objectives.

I. Cyber-Security of Computerized Building Control and Safety Systems—Evaluate and test different approaches to providing secure dynamic networks and mobile devices to communicating parties, including first responders, along with the capability to distinguish between legitimate entities and malicious intruders.

The contact person for this field of research is: Mr. Steven T. Bushby, and he may be reached at (301) 975-5873.

II. Design/Construction Product (and Process) Data Models to Support Building Commissioning, Which Occurs After Construction is Completed and Before Operation and Maintenance Begins—Determine the information needs of the building systems commissioning process and propose extensions or enhancements to the current product and process models being developed in the standards community to support the automation of this process.

The contact person for this field of research is: Dr. Kent A. Reed, and he may be reached at (301) 975-5852.

Eligibility: The Building Systems Research Grants Program is open to institutions of higher education; hospitals; non-profit organizations; commercial organizations; state, local, and Indian tribal governments; foreign governments; organizations under the jurisdiction of foreign governments; and international organizations.

Funding Availability: For fiscal year 2002, the Building Systems Research Grants Program anticipates funding one award of up to $300,000 in each field of systems research described in the Program Description and Objectives section of this notice.

Award Period: Proposals will be considered for research projects at a funding level not to exceed $300,000 per proposal within a two-year period. If an application is selected for funding, DoC has no obligation to provide any additional future funding in connection with that award.

Proposal Review Process: All applications received in response to this announcement will be reviewed to determine whether or not they are complete and responsive. Incomplete or non-responsive applications will not be reviewed for technical merit. The Program will retain one copy of each non-responsive application for three years for recordkeeping purposes. The remaining copies will be destroyed.

Responsive proposals will be forwarded to the Program Manager who will assign them to appropriate reviewers. At least three independent, objective individuals knowledgeable about the particular scientific area described above that the proposal addresses will conduct a technical review of each proposal, based on the evaluation criteria described below. When non-Federal reviewers are used, reviewers may discuss the proposals with each other, but scores will be determined on an individual basis, not as a consensus. The Program Manager will make funding recommendations to the Chief, Building Environment Division based on the technical evaluation score and the relationship of the work proposed to the objectives of the program.

In making application selections, the Chief, Building Environment Division will take into consideration the results of the evaluations, the scores of the reviewers, the Program Manager's recommendation, the availability of funds, and relevance to the objectives of the Building Systems Research Grants Program, as described in the Program Description and Objectives section for this program.

The final approval of selected applications and award of financial assistance will be made by the NIST Grants Officer based on compliance with application requirements as published in this notice, compliance with applicable legal and regulatory requirements, and whether the recommended applicants appear to be responsible. Applicants may be asked to modify objectives, work plans, or budgets and provide supplemental information required by the agency prior to award. The award decision of the Grants Officer is final. Applicants should allow up to 90 days processing time. The Program will retain one copy of each application that is not funded for three years for recordkeeping purposes. The remaining copies will be destroyed.

Evaluation Criteria: The technical evaluation criteria are as follows:

a. Technical quality of the research. Reviewers will assess the rationality, innovation and imagination of the proposal and the fit to NIST's in-house building systems research program. (0-35 points).

b. Potential impact of the results. Reviewers will assess the potential impact and the technical application of the results to our in-house building systems research program. (0-25 points)

c. Staff and institution capability to do the work. Reviewers will evaluate the quality of the facilities and experience of the staff to assess the likelihood of achieving the objective of the proposal. (0-20 points)

d. Match of budget to proposed work. Reviewers will assess the budget against the proposed work to ascertain the reasonableness of the request. (0-20 points)

Matching Requirements: Matching funds are not required.

Application Kit: For the Building Systems Research Grants Program, an application kit, containing all required application forms and certifications is available by contacting Ms. Tina Faecke, (301) 975-5911, or from the website: http://www.bfrl.nist.gov/866/extramuralprogram.htm.

Additional Information: The Department of Commerce Pre-Award Notification Requirements for Grants and Cooperative Agreements contained in the Federal Register notice of October 1, 2001 (66 FR 49917) are applicable to this solicitation. However, please note that the Department of Commerce will not implement the requirements of Executive Order 13202 (66 FR 49921), pursuant to guidance issued by the Office of Management and Budget, in light of a court opinion which found that the Executive Order was not legally authorized. See Building and Construction Trades Department v. Allbaugh, 172 F.Supp. 2d 138 (D.D.C. 2001). This decision is currently on appeal. When the case has been finally resolved, the Department will provide further information on implementation of Executive Order 13202.

In addition, the following information is applicable to this program.

Catalog of Federal Domestic Assistance Name and Number: Measurement and Engineering Research and Standards—11.609. Where websites are referenced within this notice, those who do not have access to the internet websites may contact the appropriate Program official to obtain information.

Fees and/or Profit: It is not the intent of NIST to pay fee or profit for any of the financial assistance awards that may be issued pursuant to this announcement.

Automated Standardized Application for Payment System (ASAP): During FY 2002 and becoming mandatory in FY 2003, the Department of Commerce will begin using the Department of Treasury's ASAP. NIST began using the ASAP system in July 2001 and continues to establish new accounts in ASAP. Awards made pursuant to this announcement may contain the ASAP payment clause. In order to receive payments for services under these awards, recipients will be required to register with the Department of Treasury and indicate whether or not they will use the on-line or voice response method of withdrawing funds from their ASAP established accounts. More information regarding ASAP can be found on-line at http://www.fms.treas.gov/asap/index.html.

Paperwork Reduction Act: The standard forms in the application kit involve collections of information subject to the Paperwork Reduction Act. The use of Standard Forms 424, 424A, 424B, SF-LLL, and CD-346 have been approved by the Office of Management and Budget (OMB) under the respective Control Numbers 0348-0043, 0348-0044, 0348-0040, 0348-0046, and 0605-0001.

Notwithstanding any other provision of the law, no person is required to respond to, nor shall any person be subject to a penalty for failure to comply with, a collection subject to the requirements of the Paperwork Reduction Act, unless that collection of information displays a currently valid OMB Control Number.

Type of Funding Instrument: The funding instrument will be a grant or cooperative agreement, depending on the nature of the proposed work. A grant will be used unless NIST is “substantially involved” in the project, in which case a cooperative agreement will be used. A common example of substantial involvement is collaboration between NIST scientists and recipient scientists or technicians. Further examples are listed in Section 5.03.d of Department of Commerce Administrative Order 203-26, which can be found at http://www.doc.gov/oebam/GCA manual.htm. NIST will make decisions regarding the use of a cooperative agreement on a case-by-case basis. Funding for contractual arrangements for services and products for delivery to NIST is not available under this announcement.

Classification: This funding notice was determined to be “not significant” for purposes of Executive Order 12866.

It has been determined that this notice does not contain policies with Federalism implications as that term is defined in Executive Order 13132.

Applications under these programs are not subject to Executive Order 12372, “Intergovernmental Review of Federal Programs.”

Because notice and comment are not required under 5 U.S.C. 553, or any other law, for notices relating to public property, loans, grants, benefits or contracts (5 U.S.C. 553(a)), a Regulatory Flexibility Analysis is not required and has not been prepared for this notice, 5 U.S.C. 601 et seq.

Dated: July 29, 2002.
Arden L. Bement, Jr.,
Director.

[FR Doc. 02-19699 Filed 8-2-02; 8:45 am]

BILLING CODE 3510-13-P